DEPARTMENT OF HEALTH AND HUMAN SERVICES

Public Meeting of the Presidential Commission for the Study of Bioethical Issues

AGENCY: Department of Health and Human Services, Office of the Assistant Secretary for Health, The Presidential Commission for the Study of Bioethical Issues.

ACTION: Notice of Meeting.

SUMMARY: The Presidential Commission for the Study of Bioethical Issues (PCSBI) will conduct its third meeting in November. At this meeting, the Commission will continue discussing the emerging science of synthetic biology, including its potential benefits and risks, and appropriate ethical boundaries and principles. The Commission will develop and finalize recommendations concerning any actions that the Federal Government should take to ensure that America reaps the benefits of this developing field of science while identifying appropriate ethical boundaries and minimizing risks. It will also identify suggestions for future study, if any.

DATES: The meeting will take place Tuesday, November 16, 2010, from 10:30 a.m. to approximately 4:15 p.m., and Wednesday, November 17, 2010, from 9 a.m. to approximately 11:30 a.m.

ADDRESSES: Emory Conference Center Hotel, 1615 Clifton Road, Atlanta, GA 30329. Phone 404-712-6000.

FOR FURTHER INFORMATION CONTACT: Judy Crawford, The Presidential Commission for the Study of Bioethical Issues, 1425 New York Avenue, NW., Suite C-100, Washington, DC 20005. Telephone: 202/233-3960. E-mail: judy.crawford@bioethics.gov. Additional information may be obtained by viewing the Web site: http://www.bioethics.gov.

SUPPLEMENTARY INFORMATION: Pursuant to the Federal Advisory Committee Act, Public Law 92-463, as amended 5 U.S.C. App., notice is hereby given of the third meeting of the PCSBI. The meeting will be held from 10:30 a.m. to approximately 4:15 p.m. on Tuesday, November 16, 2010, and from 9 a.m. to approximately 11:30 a.m. on Wednesday, November 17, 2010, at the Emory Conference Center Hotel, Atlanta, GA. The meeting will be open to the public with attendance limited to space available. The meeting will also be Web cast at http://www.bioethics.gov.

Under authority of Executive Order 13521, dated November 24, 2009, the President established the PCSBI to serve as a public forum and advise him on bioethical issues generated by novel and emerging research in biomedicine and related areas of science and technology. The Commission is charged to identify and promote policies and practices that assure ethically responsible conduct of scientific research, healthcare delivery, and technological innovation. In undertaking these duties, the Commission will examine specific bioethical, legal, and social issues related to potential scientific and technological advances; examine diverse perspectives and explore possibilities for useful international collaboration on these issues, and recommend legal, regulatory, or policy actions as appropriate. The main agenda items for this third meeting involve further discussion of the opportunities and benefits to the public of the emerging science of synthetic biology, the challenges and risks, and the ethical boundaries that may be important to formulation of public policy with regard to this advancing science. The Commission also will develop and finalize recommendations concerning any actions that the Federal Government should take to ensure that America reaps the benefits of this developing field of science while identifying appropriate ethical boundaries and minimizing risks. It will also identify suggestions for future study, if any. The draft meeting agenda and other information about PCSBI, including information about access to the Web cast, will be available at http://www.bioethics.gov.

The Commission welcomes input from anyone wishing to provide public comment on any issue before it. Individuals who would like to provide public comment at the meeting should notify Judy Crawford by telephone at 202-233-3960, or e-mail at judy.crawford@bioethics.gov. Anyone planning to attend the meeting who needs special assistance, such as sign language interpretation or other reasonable accommodations, should also notify Judy Crawford in advance of the meeting. The Commission will make every effort to accommodate persons who need special assistance.

Written comments will also be accepted. Please address written comments by e-mail to info@bioethics.gov, or by mail to the following address: Public Commentary, The Presidential Commission for the Study of Bioethical Issues, 1425 New York Ave. NW., Suite C-100, Washington, DC 20005. Comments will be publicly available, including any personally identifiable or confidential business information that they contain. Trade secrets should not be submitted.

Dated: October 22, 2010.
Valerie H. Bonham,
Executive Director, The Presidential Commission for the Study of Bioethical Issues.

[FR Doc. 2010-27233 Filed 10-27-10; 8:45 am]

BILLING CODE 4154-06-P